DEPARTMENT OF COMMERCE

National Oceanic and Atmospheric Administration

[RTID 0648-XD287]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (MAFMC)'s Spiny Dogfish and Monkfish Committees (Committees) will hold a public meeting. For agenda details, see SUPPLEMENTARY INFORMATION.

DATES: The meeting will be held on Wednesday, September 20, 2023, from 10 a.m. to 4 p.m.

ADDRESSES: The meeting will be held via webinar. Webinar connection, agenda items, and any additional information will be available at www.mafmc.org/council-events.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of this meeting is for the Committees to discuss potential measures to reduce bycatch of Atlantic sturgeon in the monkfish and spiny dogfish gillnet fisheries, developed from the recommendations in NOAA's Action Plan to Reduce Atlantic Sturgeon Bycatch in Federal Large-Mesh Gillnet Fisheries. They will also further refine the draft range of alternatives discussed by the Councils (NEFMC and MAFMC), to be considered for reducing bycatch of Atlantic sturgeon in the monkfish and spiny dogfish gillnet fisheries. Other business may be discussed, as necessary.

Special Accommodations

The meeting is physically accessible to people with disabilities. Requests for sign language interpretation or other auxiliary aids should be directed to Shelley Spedden at the Council Office, (302) 526-5251, at least 5 days prior to the meeting date.

Authority: 16 U.S.C. 1801 et seq.

Dated: August 30, 2023.
Rey Israel Marquez,
Acting Deputy Director, Office of Sustainable Fisheries, National Marine Fisheries Service.

[FR Doc. 2023-19082 Filed 9-1-23; 8:45 am]

BILLING CODE 3510-22-P